DEPARTMENT OF HEALTH AND HUMAN SERVICES

Meeting of the Chronic Fatigue Syndrome Advisory Committee

AGENCY: Office of the Assistant Secretary for Health, Office of the Secretary, Department of Health and Human Services.

ACTION: Notice.

SUMMARY: As stipulated by the Federal Advisory Committee Act, the U.S. Department of Health and Human Services is hereby giving notice that the Chronic Fatigue Syndrome Advisory Committee (CFSAC) will hold a meeting. The meeting will be open to the public.

DATES: The meeting will be held on Tuesday, August 18, 2015, from 9:00 a.m. until 5:00 p.m., ET and Wednesday, August 19, 2015, from 9:00 a.m. until 5:00 p.m., ET.

ADDRESSES: Department of Health and Human Services, Hubert H. Humphrey Building, 200 Independence Avenue SW., Room 800, Washington, DC 20201. For a map and directions to the Hubert H. Humphrey building, please refer to http://www.hhs.gov/about/hhh.html.

FOR FURTHER INFORMATION CONTACT: Any questions about meeting registration or public comment sign-up should be directed to CFSACmtg@hhs.gov. Please direct other inquiries to CFSAC@hhs.gov.

SUPPLEMENTARY INFORMATION: CFSAC was established on September 5, 2002 to advise, consult with, and make recommendations to the Secretary, through the Assistant Secretary for Health, on a broad range of topics including: (1) The current state of knowledge and research and the relevant gaps in knowledge and research about the epidemiology, etiologies, biomarkers, and risk factors relating to myalgic encephalomyelitis/chronic fatigue syndrome (ME/CFS), and identifying potential opportunities in these areas; (2) impact and implications of current and proposed diagnosis and treatment methods for ME/CFS; (3) development and implementation of programs to inform the public, health care professionals, and the biomedical research communities about ME/CFS advances; and (4) strategies to improve the quality of life of ME/CFS patients.

The agenda for this meeting is being developed and will be posted on the CFSAC Web site, http://www.hhs.gov/advcomcfs/ when finalized. The meeting will be live-video streamed at http://www.hhs.gov/live and archived through the CFSAC Web site: http://www.hhs.gov/advcomcfs/. Listening-only via telephone will be available on both days. Call-in information will be posted on the CFSAC Web site.

Individuals who plan to attend in-person on one or both days will need to register in advance so that information can be provided to government security officials to facilitate entrance to the building. A registration form should be downloaded from the CFSAC Web site (http://www.hhs.gov/advcomcfs/), completed, and emailed to CFSACmtg@hhs.gov to facilitate entrance through building security. Registration will be open on July 27, 2015. All registration should be completed by August 13, 2015. Using the same process as above, members of the media will need to register at CFSACmtg@hhs.gov. All attendees will be required to show valid government-issued picture identification (state or federal) for entry into the federal building. Attendees will receive a wrist band that must be worn the entire time. Security requires all non-federal employees to be escorted the entire time they are in the building. Upon leaving the building for any reason, persons will be required to follow the security steps mentioned above and receive a new wrist band.

Attendance by visitors who are not U.S. citizens is welcome, but prior approval is required. A form for non-U.S. citizens can be downloaded from the CFSAC Web site (http://www.hhs.gov/advcomcfs/), completed, and emailed to CFSACmtg@hhs.gov before August 1, 2015.

Members of the public will have the opportunity to provide public comment at the meeting or via telephone. International calls cannot be accommodated. Individuals wishing to provide public comment in-person or via phone will be required to request time for public comment by Monday, August 10, 2015 at the following link: CFSACmtg@hhs.gov. An email will be sent by August 13, 2015 to confirm an individual's time for public comment. Each speaker will be limited to three minutes for public comment. No exceptions will be made. Priority will be given to individuals who have not provided public comment within the previous year.

You are not required to submit a written copy of your testimony unless you wish to have it included in the public record. Individuals wishing to submit written comment for the public record should send an electronic copy of their written testimony to: CFSACmtg@hhs.gov by August 13, 2015. The document for public record must not exceed 5 single-spaced, typed pages, using a 12-point typeface; it is preferred that the document be prepared in the MS Word format. Please note that PDF files, hand-written notes, charts, and photographs will not be posted on the CFSAC Web site.

Requests to participate in the public comment and provide written testimony will not be accepted at CFSAC@hhs.gov. Please send all questions about public comment requests or inquiries to CFSACmtg@hhs.gov.

Only written testimony submitted for public record and received by August 13, 2015 are part of the official meeting record; this testimony will be posted to the CFSAC Web site within 60 days after the meeting. Materials submitted should not include sensitive personal information, such as social security number, birthdates, driver's license number, state identification or foreign country equivalent, passport number, financial account number, credit or debit card number. If you wish to remain anonymous the document must specify this.

Persons who wish to distribute printed materials in person (at their own expense) to CFSAC members during the meeting should submit one copy for approval to the Designated Federal Officer at CFSACmtg@hhs.gov, prior to August 13, 2015.

Dated: July 17, 2015.
Nancy C. Lee,
Designated Federal Officer, Chronic Fatigue Syndrome Advisory Committee.

[FR Doc. 2015-18444 Filed 7-27-15; 8:45 am]

BILLING CODE 4150-42-P